DEPARTMENT OF COMMERCE

Census Bureau

2002 Census of Governments Local Government Directory Survey; Proposed Information Collection

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before May 14, 2001.

ADDRESSES: Direct all written comments to Madeleine Clayton, Departmental Forms Clearance Officer, Department of Commerce, Room 6086, 14th and Constitution Avenue, NW, Washington, DC 20230 (or via the Internet at MClayton@doc.gov).

FOR FURTHER INFORMATION CONTACT: Requests for additional information or copies of the information collection instrument(s) and instructions should be directed to Robert McArthur, Chief, Program Evaluation Branch, Governments Division, U.S. Census Bureau, Washington, DC 20233-6800 (301 457-1582).

SUPPLEMENTARY INFORMATION:

I. Abstract

The U.S. Census Bureau plans to request approval of the 2002 Census of Governments Local Government Directory Survey data collection forms: Form G-26 (County Governments), Form G-28 (Municipal and Township Governments), Form G-29 (Special District Governments), Form G-30 (Special District Governments), Form G-32 (Public School Systems), and Form G-33 (Public School Systems). These forms will be used for the following purposes: (1) To produce the official count of state and local government units in the United States; (2) to obtain descriptive information on the basic characteristics of governments; (3) to identify and delete inactive units; (4) to identify file duplicates and units that were dependent on other governments; and (5) to update and verify the mailing addresses of governments.

The 2002 Census of Governments Local Government Directory Survey consists of three basic content areas: government organization, government finance, and government employment. For government organization we will ask for authorizing legislation, incorporation date, fiscal year ending date, area served, services provided, web address, and corrections to the name and address of the government. In addition we will ask if special districts have taxing powers, if general purpose governments and special districts own and operate the services they are responsible for providing, if school districts operate schools, and if the government conducts e-government transactions. For government finance we will ask for total revenue, total expenditure, and total debt. For government employment we will ask for full-time employees, part-time employees, and annual payroll.

II. Method of Collection

Each of the 89,000 county governments, consolidated city-county governments, independent cities, towns, townships, special district governments, and public school systems designated for the census will be sent an appropriate form. Respondents will be asked to verify or correct the name and mailing address of the government, answer the questions on the form, and return the form.

The feasibility of electronic data collection will be explored.

III. Data

OMB Number: None.

Form Number: G-26, G-28, G-29, G-30, G-32, and G-33.

Type of Review: Regular.

Affected Public: County governments, consolidated city-county governments, independent cities, towns, townships, special district governments, and public school systems.

Estimated Number of Respondents: 89,000.

Estimated Time Per Response: 0.25 hours.

Estimated Total Annual Burden Hours: 22,250.

Estimated Total Annual Cost: $356,000.00.

Respondent's Obligation: Voluntary.

Legal Authority: Title 13 United States Code, Section 161.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 8, 2001.
Madeleine Clayton,
Departmental Forms Clearance Officer, Office of the Chief Information Officer.

[FR Doc. 01-6249 Filed 3-13-01; 8:45 am]

BILLING CODE 3510-07-P